DEPARTMENT OF HOMELAND SECURITY

Coast Guard

[Docket No. USCG-2018-0274]

Great Lakes Pilotage Advisory Committee; Vacancies

AGENCY: U.S. Coast Guard, Department of Homeland Security.

ACTION: Request for applications.

SUMMARY: The U.S. Coast Guard seeks applications for membership on the Great Lakes Pilotage Advisory Committee. The Great Lakes Pilotage Advisory Committee provides advice and makes recommendations to the Secretary of Homeland Security through the U.S. Coast Guard Commandant on matters relating to Great Lakes pilotage, including review of proposed Great Lakes pilotage regulations and policies.

DATES: Completed applications should reach the U.S. Coast Guard on or before April 27, 2018.

ADDRESSES: Applicants should send a cover letter expressing interest in an appointment to the Great Lakes Pilotage Advisory Committee that also identifies which membership category the applicant is applying under, along with a resume detailing the applicant's experience via one of the following methods:

• By Email: Rajiv.Khandpur@uscg.mil.

• By Fax: (202) 372-8387 ATTN: Mr. Rajiv Khandpur.

• By Mail: Commandant (CG-WWM-2), U.S. Coast Guard, Attention: Mr. Rajiv Khandpur, Designated Federal Officer, Great Lakes Pilotage Advisory Committee, 2703 Martin Luther King Jr. Ave. SE, Stop 7509, Washington, DC 20593-7509.

FOR FURTHER INFORMATION CONTACT: Mr. Rajiv Khandpur, Designated Federal Officer, Great Lakes Pilotage Advisory Committee, 2703 Martin Luther King Jr. Ave. SE, Stop 7509, Washington, DC 20593-7509; telephone 202-372-1525, fax 202-372-8387, or email at Rajiv.Khandpur@uscg.mil.

SUPPLEMENTARY INFORMATION: The Great Lakes Pilotage Advisory Committee is a federal advisory committee established in accordance with the provisions of the Federal Advisory Committee Act (5 U.S.C., Appendix). The Great Lakes Pilotage Advisory Committee operates under the authority of 46 U.S.C. 9307, and makes recommendations to the Secretary and the U.S. Coast Guard on matters relating to the Great Lakes.

Meetings of the Great Lakes Pilotage Advisory Committee will be held with the approval of the Designated Federal Officer. The Committee is required to meet at least once per year. Additional meetings may be held at the request of a majority of the Committee or at the discretion of the Designated Federal Officer.

Each Great Lakes Pilotage Advisory Committee member serves a term of office of up to 3 years. Members may serve a maximum of six consecutive years. All members serve without compensation from the Federal Government; however, they may receive travel reimbursement and per diem.

We will consider applications for two positions that will become vacant on September 30, 2018.

• One member representing the interests of vessel operators that contract for Great Lakes Pilotage Services;

• One member with a background in finance or accounting, who—

a. Must have been recommended to the Secretary of the Department of Homeland Security by a unanimous vote of the other members of the Committee, and

b. May be appointed without regard to the requirement that each member have five years of practical experience in maritime operations.

To be eligible, applicants should have particular expertise, knowledge, and experience regarding the regulations and policies on the pilotage vessels on the Great Lakes, and at least five years of practical experience in maritime operations.

The category for a member with a background in finance and accounting would be someone appointed in their individual capacity and would be designated as a Special Government Employee as defined in 202(a) of Title 18, U.S.C. As a candidate for appointment as a Special Government Employee, applicants are required to complete a Confidential Financial Disclosure Report (OGE Form 450). The U.S. Coast Guard may not release the reports or the information in them to the public except under an order issued by a Federal Court or as otherwise provided under the Privacy Act (5 U.S.C. 552a). Only the Designated U.S. Coast Guard Ethics Official or his or her designee may release a Confidential Financial Disclosure Report. Applicants can obtain this form by going to the website of the Office of Government Ethics (www.oge.gov) or by contacting the individual listed above in FOR FURTHER INFORMATION CONTACT.

Registered lobbyists are not eligible to serve on Federal Advisory Committees in an individual capacity. See “Revised Guidance on Appointment of Lobbyists to federal advisory committees, Boards and Commissions” (79 FR 47482, August 13, 2014). Registered lobbyists are lobbyists as defined in Title 2 U.S.C. 1602 who are required by Title 2 U.S.C. 1603 to register with the Secretary of the Senate and the Clerk of the House Representatives.

The Department of Homeland Security does not discriminate in selection of Committee members on the basis of race, color, religion, sex, national origin, political affiliation, sexual orientation, gender identity, marital status, disability and genetic information, age, membership in an employee organization, or other non-merit factor. The Department of Homeland Security strives to achieve a widely diverse candidate pool for all of its recruitment actions.

If you are interested in applying to become a member of the Committee, send your cover letter and resume to Mr. Rajiv Khandpur, Designated Federal Officer, Great Lakes Pilotage Advisory Committee, via one of the transmittal methods in the ADDRESSES section by the deadline in the DATES section of this notice. Email submittals will receive email receipt confirmation.

Dated: March 23, 2018.
Michael D. Emerson,
Director, Marine Transportation Systems.

[FR Doc. 2018-06194 Filed 3-27-18; 8:45 am]

BILLING CODE 9110-04-P